DEPARTMENT OF HEALTH AND HUMAN SERVICES

Centers for Disease Control and Prevention

Board of Scientific Counselors, Office of Infectious Diseases (BSC, OID)

Correction: This notice was published in the Federal Register on April 12, 2017, Volume 82, Number 69, pages 17666-17667. The Status should read as follows:

Status: Open to the public limited only by the space and telephone ports available (The meeting room will accommodate up to 100 people and the telephone ports will accommodate up to 50 people). The toll-free dial-in number is 1-888-373-3590 with a pass code of 541544.

Contact Person For More Information: Robin Moseley, M.A.T., Designated Federal Officer, OID, CDC, 1600 Clifton Road NE., Mailstop D10, Atlanta, Georgia 30329, Telephone: (404) 639-4461.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-09207 Filed 5-5-17; 8:45 am]

BILLING CODE 4163-18-P